DEPARTMENT OF THE INTERIOR

National Park Service

[N6725; NPS-WASO-NAGPRA-NPS0041485; PPWOCRADN0-PCU00RP14.R50000]

Notice of Inventory Completion: Western Michigan University, Institute for Intercultural and Anthropological Studies, Kalamazoo, MI

AGENCY: National Park Service, Interior.

ACTION: Notice.

SUMMARY: In accordance with the Native American Graves Protection and Repatriation Act (NAGPRA), Western Michigan University (WMU) has completed an inventory of human remains and has determined that there is a cultural affiliation between the human remains and Indian Tribes or Native Hawaiian organizations in this notice.

DATES: Repatriation of the human remains in this notice may occur on or after January 20, 2026.

ADDRESSES: Send written requests for repatriation of the human remains in this notice to Britt Hartenberger, Institute for Intercultural and Anthropological Studies, Western Michigan University, 1005 Moore Hall, Kalamazoo, MI 49008, email britt.hartenberger@wmich.edu.

SUPPLEMENTARY INFORMATION: This notice is published as part of the National Park Service's administrative responsibilities under NAGPRA. The determinations in this notice are the sole responsibility of WMU, and additional information on the determinations in this notice, including the results of consultation, can be found in its inventory or related records. The National Park Service is not responsible for the determinations in this notice.

Abstract of Information Available

Human remains representing, at least, 17 individuals have been identified. No associated funerary objects are present. In 1968, human remains were removed from the Brainerd Ossuary (20AE61) in Valley Township, Allegan County as part of an archaeological field school. In May 2011, WMU consulted with the Pokagon Band of Potawatomi Indians, the Match-e-be-nash-she-wish Band of Pottawatomi Indians, and the Saginaw Chippewa Indian Tribe of Michigan, and published a Notice of Inventory Completion in the Federal Register (76 FR 28078). In July 2011, WMU repatriated these human ancestors and associated artifacts to the Pokagon Band of Potawatomi Indians.

In December 2023, WMU discovered additional human remains from Brainerd, deriving from the archaeological excavations and a set donated by one of the amateurs. No new associated funerary objects were found. The newly discovered skeletal collection consists of over 770 bone fragments, representing a minimum of 17 individuals ranging in age from infants to older adults. The fragmentary nature of the collection makes detailed age and sex assessments by individual difficult. No known individuals were identified from the excavated or otherwise obtained remains.

Cultural Affiliation

Based on the information available and the results of consultation, cultural affiliation is reasonably identified by the geographical location or acquisition history of the human remains described in this notice.

Determinations

WMU has determined that:

• The human remains described in this notice represent the physical remains of 17 individuals of Native American ancestry.

• There is a connection between the human remains described in this notice and the Match-e-be-nash-she-wish Band of Pottawatomi Indians of Michigan; Pokagon Band of Potawatomi Indians, Michigan and Indiana; and the Saginaw Chippewa Indian Tribe of Michigan.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after January 20, 2026. If competing requests for repatriation are received, WMU must determine the most appropriate requestor prior to repatriation. Requests for joint repatriation of the human remains are considered a single request and not competing requests. WMU is responsible for sending a copy of this notice to the Indian Tribes and Native Hawaiian organizations identified in this notice.

Authority: Native American Graves Protection and Repatriation Act, 25 U.S.C. 3003, and the implementing regulations, 43 CFR 10.10.

Dated: December 2, 2025.
Melanie O'Brien,
Manager, National NAGPRA Program.

[FR Doc. 2025-23179 Filed 12-17-25; 8:45 am]

BILLING CODE 4312-52-P